UNITED STATES INSTITUTE OF PEACE

Announcement of the Fall 2003 Unsolicited Grant Competition Grant Program

AGENCY: United States Institute of Peace.

ACTION: Notice.

SUMMARY: The Agency announces its Upcoming Unsolicited Grant Program, which offers support for research, education and training, and the dissemination of information on international peace and conflict resolution. The Unsolicited competition is open to any project that falls within the Institute's broad mandate of international conflict resolution.

deadline: October 1, 2003. Application Material Available on Request.

DATES: Receipt of Application: October 1, 2003. Notification Date: March 31, 2004.

ADDRESSES: For Application Package: United States Institute of Peace, Grant Program, 1200 17th Street, NW., Suite 200, Washington, DC 20036-3011, (202) 429-3842 (phone), (202) 429-6063 (fax), (202) 457-1719 (TTY), E-mail: grants@usip.org.

Application material available on-line: http://www.usip.org/grants.

FOR FURTHER INFORMATION CONTACT: The Grant Program, Phone (202) 429-3842, E-mail: grants@usip.org.

Dated: July 8, 2003.
Bernice J. Carney,
Director, Office of Administration.

[FR Doc. 03-17673 Filed 7-11-03; 8:45 am]

BILLING CODE 6820-AR-M